DEPARTMENT OF HEALTH AND HUMAN SERVICES

Centers for Disease Control and Prevention

Disease, Disability, and Injury Prevention and Control Special Emphasis Panel (SEP)—CE20-006: Research Grants To Prevent Firearm-Related Violence and Injuries; Amended Notice of Meeting

Notice is hereby given of a change in the meeting of the Disease, Disability, and Injury Prevention and Control Special Emphasis Panel (SEP)—CE20-006: Research Grants to Prevent Firearm-Related Violence and Injuries; July 6-10, 2020, 8:30 a.m.-5:00 p.m., EDT, Videoconference which was published in the Federal Register on June 1, 2020, Volume 85, Number 105, page 33159. The meeting is being amended to include specific dates and times of the panels. CE20-006: Research Grants to Prevent Firearm-Related Violence and Injuries—Panel A will be held July 6-7, 2020 from 8:30 a.m.-5:00 p.m., EDT. CE20-006: Research Grants to Prevent Firearm-Related Violence and Injuries—Panel B1 and Panel B2 will be held July 8-10, 2020 from 8:30 a.m.-5:00 p.m., EDT. The meeting is closed to the public.

FOR FURTHER INFORMATION CONTACT: Mikel Walters, Ph.D., Scientific Review Official, National Center for Injury Prevention and Control, CDC, 4770 Buford Highway NE, Mailstop F-63, Atlanta, Georgia 30341, Telephone (404) 639-0913, MWalters@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-12654 Filed 6-10-20; 8:45 am]

BILLING CODE 4163-18-P